DEPARTMENT OF HEALTH AND HUMAN SERVICES

National Institutes of Health

Eunice Kennedy Shriver National Institute of Child Health & Human Development; Amended Notice of Meetings

Notice is hereby given of a change in the meetings of the National Institute of Child Health and Human Development Special Emphasis Panels, April 20, 2021, 8:00 a.m. to April 21, 2021, 6:00 p.m., NIH, and April 22, 2021, 8:00 a.m. to April 22, 2021, 6:00 p.m., NIH, 6710B Rockledge Drive, Bethesda, MD 20892 which was published in the Federal Register on January 15, 2021, 86 FR 4105.

The dates of the meetings changed to March 9, 2021, 8:00 a.m. to March 10, 2021, 6:00 p.m. and March 11, 2021, 8:00 a.m. to March 11, 2021, 6:00 p.m., respectively.

The meetings are closed to the public.

Dated: January 29, 2021.
Ronald J. Livingston, Jr.,
Program Analyst, Office of Federal Advisory Committee Policy.

[FR Doc. 2021-02293 Filed 2-3-21; 8:45 am]

BILLING CODE 4140-01-P